DEPARTMENT OF THE INTERIOR

Bureau of Land Management

[LLES93000-L13200000-GAOOO0-241AOO, ALES-55199]

Notice of Competitive Coal Lease Sale ALES-55199, Alabama

AGENCY: Bureau of Land Management, Interior.

ACTION: Notice.

SUMMARY: Notice is hereby given that certain Federal coal reserves in the Narley Mine Coal Tract described below in Jefferson County, Alabama, will be offered for competitive sale by sealed bid in accordance with the provisions of the Mineral Leasing Act of 1920, as amended.

DATES: The lease sale will be held at 1 p.m. Central Time (CT) on April 14, 2016. Sealed bids must be submitted on or before 10 a.m. CT on April 14, 2016. Any bid received after the time specified will not be considered.

ADDRESSES: The lease sale will be held at the Bureau of Land Management (BLM) Southeastern States District Office located at 411 Briarwood Drive, Suite 404, Jackson, MS 39206. Sealed bids must be sent by certified mail, return receipt requested, or hand-delivered to the Cashier, BLM Southeastern States Office, at the address given above. The outside of the sealed envelope containing the bid must be clearly marked “Sealed Bid for Coal Lease Sale ALES-55199—Not to be opened before 10 a.m. on April 14, 2016.” The Cashier will issue a receipt for each hand-delivered bid.

FOR FURTHER INFORMATION CONTACT: Randall Mills, BLM Mining Engineer, 601-977-5437, or by email to ramills@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This coal lease sale is being held in response to a lease by application (LBA) filed by Best Coal Company. The Federal coal reserves to be offered consist of all reserves recoverable by surface mining methods in the following described lands located approximately 5 miles north of Mt Olive, Alabama, in Jefferson County, Alabama:

Huntsville Meridian, Alabama

T. 15 S., R. 4 W.,

Sec. 24, SW1/4NW1/4, N1/2SW1/4, and SE1/4SW1/4.

The areas described aggregate 160 acres.

The Narley Mine Coal Tract contains three minable coal beds known as the New Castle, Mary Lee, and Blue Creek seams of the Mary Lee coal group. The seams are under private surface lands. The minable portions of these coal beds for this tract are approximately 4 to 5 feet in thickness. The tract contains approximately 671,500 tons of recoverable high-volatile bituminous coal. The estimated average coal quality on an “as received basis” is as follows:

12,500 | British Thermal Unit (Btu/lb).
3.50 | Percent moisture.*
12.00 | Percent ash.
34 | Percent volatile matter.
50.50 | Percent fixed carbon.
1.50 | Percent sulfur.
* Estimated as received moisture; also used for calculating as received from dry basis.

The tract will be leased to the qualified bidder of the highest cash amount provided that the high bid meets or exceeds the BLM's estimate of the fair market value (FMV) of the tract or the minimum bid established by regulation of $100 per acre or fraction thereof, whichever is larger. No bid that is less than $100 per acre, or fraction thereof, will be considered. The FMV will be determined by the authorized officer prior to the sale. If identical high bids are received, the tying high bidders will be requested to submit follow-up sealed bids until a high bid is received. All tie-breaking, sealed bids must be submitted within 15 minutes following the sale official's announcement at the sale that identical high bids have been received.

The lease that may be issued as a result of this offering will provide for payment of an annual rental of $3 per acre, or fraction thereof, and a royalty payment to the United States of 12½ percent of the value of coal produced by surface mining methods. The value of the coal will be determined in accordance with 30 CFR 1206.250.

Pursuant to the regulation at 43 CFR 3473.2(f), the applicant for the Narley Coal Tract has paid a total case-by-case cost recovery processing fee in the amount of $30,630. The successful bidder for the Narley Coal Tract, if someone other than the applicant, must pay to the BLM the full amount previously paid by Best Coal Company. Additionally, the successful bidder must pay all processing costs the BLM will incur after the date this sale notice is published in the Federal Register, which are estimated to be $2,000.

Bidding instructions for the LBA tract offered and the terms and conditions of the proposed coal lease are included in the Detailed Statement of Lease Sale and available from the BLM Southeastern States Office at the address above. All case file documents, number ALES-55199, and written comments submitted by the public on FMV or royalty rates, except those portions protected as trade secrets and commercial or financial information under the Freedom of Information Act, 5 U.S.C. 552(b)(4), are available for public inspection in the Public Room of the BLM Southeastern States Office at the address above.

The actions announced by this notice are consistent with Secretarial Order 3338, which allows the sale and issuance of new thermal coal leases by application under pending applications for which the environmental analysis under the National Environmental Policy Act has been completed and a Decision Record has been issued by the BLM. The BLM completed an Environmental Assessment for this coal lease sale following a public hearing on November 20, 2014, and issued a Decision Record and a Finding of No Significant Impact on February 16, 2015.

Ann DeBlasi,
Acting State Director.

[FR Doc. 2016-05642 Filed 3-11-16; 8:45 am]

BILLING CODE 4310-GJ-P